INTERNATIONAL TRADE COMMISSION

[Investigation No. 332-525 ]

Remanufactured Goods: An Overview of the U.S. and Global Industries, Markets, and Trade; Institution of Investigation and Scheduling of Public Hearing

AGENCY: United States International Trade Commission.

ACTION: Notice.

SUMMARY: Following receipt of a request dated and received June 28, 2011 from the U.S. Trade Representative (USTR) under section 332(g) of the Tariff Act of 1930 (19 U.S.C. 1332(g)), the U.S. International Trade Commission (Commission) instituted investigation No. 332-525, Remanufactured Goods: An Overview of the U.S. and Global Industries, Markets, and Trade.

DATES:

January 31, 2012: Deadline for filing requests to appear at the public hearing.

February 9, 2012: Deadline for filing pre-hearing briefs and statements.

February 28, 2012: Public hearing.

March 8, 2012: Deadline for filing post-hearing briefs.

May 20, 2012: Deadline for filing all other written submissions.

October 28, 2012: Transmittal of Commission report to the USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at https://edis.usitc.gov/edis3-internal/app.

FOR FURTHER INFORMATION CONTACT: Project Leader Alan Treat (202-205-3426 or alan.treat@usitc.gov) or Deputy Project Leader Jeremy Wise (202-205-3190 or jeremy.wise@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by USTR, the Commission will conduct an investigation and prepare a report that provides an overview of the U.S. remanufactured goods industries and markets, estimates U.S. and global trade in remanufactured goods to the extent possible, and examines factors affecting trends in remanufactured goods trade. The Commission's report will focus on remanufacturing-intensive sectors in the U.S. economy that account for the majority of remanufacturing activity in the United States. For the purpose of its analysis, the Commission will define remanufactured goods as non-agricultural goods that are entirely or partially comprised of parts that (i) Have been obtained from the disassembly of used goods; and (ii) have been processed, cleaned, inspected, and tested to the extent necessary to ensure they have been restored to original working condition or better; and for which the remanufacturer has issued a warranty. The Commission will base its report on a review of available data and other information, including the collection of primary data through a survey of enterprises engaged in remanufacturing. The report will cover the period 2009-11, and to the extent practicable will estimate and describe the following:

• The size and scope of remanufacturing in the United States, including principal producers, levels of employment, investment, and sales (including in the domestic market and exports);

• The U.S. market for remanufactured goods, including the goods supplied by domestic producers;

• U.S. exports of remanufactured goods, including by primary export sector and leading export destinations. The report will also compare U.S. exports of remanufactured goods to free trade agreement (FTA) partners with exports to non-FTA partners. To the extent possible, the report will also include information on the level of U.S. imports of remanufactured goods as well as the level of imports of “cores” (used goods acting as the primary component input(s)) and the principal sources for these products; and

• The factors affecting sales, trade, and investment in U.S. remanufactured goods, including a discussion of recent trends.

To the extent possible, the report will also include the following:

• An assessment of foreign direct investment (FDI) in U.S. remanufacturing, including associated employment and the extent to which foreign firms have invested in U.S. enterprises producing remanufactured goods;

• An overview of outward FDI in remanufacturing by leading U.S.-based firms, including their major markets;

• An analysis of trade by foreign remanufacturers invested in the United States, include trade in “cores”; and

• An overview of the global markets for remanufactured goods and enterprises engaged in remanufacturing.

The USTR asked that the Commission deliver its report no later than October 28, 2012.

Public Hearing: A public hearing in connection with this investigation will be held at the U.S. International Trade Commission Building, 500 E Street, SW., Washington, DC, beginning at 9:30 a.m. on Tuesday, February 28, 2012. Requests to appear at the public hearing should be filed with the Secretary, no later than 5:15 p.m., January 31, 2012, in accordance with the requirements in the “Submissions” section below. All pre-hearing briefs and statements should be filed not later than 5:15 p.m., February 9, 2012; and all post-hearing briefs and statements should be filed not later than 5:15 p.m., March 8, 2012. In the event that, as of the close of business on January 31, 2012, no witnesses are scheduled to appear at the hearing, the hearing will be canceled. Any person interested in attending the hearing as an observer or nonparticipant should contact the Office of the Secretary at 202-205-2000 after January 31, 2012, for information concerning whether the hearing will be held.

Written Submissions: In lieu of or in addition to participating in the hearing, interested parties are invited to submit written statements concerning this investigation. All written submissions should be addressed to the Secretary, and should be received not later than 5:15 p.m., May 20, 2012. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook on Electronic Filing Procedures, http://www.usitc.gov/docket_services/documents/handbook_on_electronic_filing.pdf). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter, the USTR stated that he intends to make the Commission's report available to the public in its entirety, and asked that the Commission not include any confidential business information or national security classified information in the report. Any confidential business information received by the Commission in this investigation and used in preparing this report will not be published in a manner that would reveal the operations of the firm supplying the information.

By order of the Commission.
Issued: July 20, 2011.
James R. Holbein,
Secretary to the Commission.

[FR Doc. 2011-18796 Filed 7-25-11; 8:45 am]

BILLING CODE 7020-02-P